CORPORATION FOR NATIONAL AND COMMUNITY SERVICE

45 CFR Part 2525

RIN 3045-AA09

AmeriCorps Education Awards

AGENCY: Corporation for National and Community Service.

ACTION: Final rule.

SUMMARY: We are amending a provision of our National Service Trust regulations relating to the permitted uses of the AmeriCorps education award. This change will expand the definition of “current” educational expenses to include expenses incurred after an individual enrolls in a term of service as an AmeriCorps member.

DATES: This final rule is effective February 12, 2001.

FOR FURTHER INFORMATION CONTACT: Gary Kowalczyk, Coordinator of National Service Programs, Corporation for National and Community Service, (202) 606-5000, ext. 340. T.D.D. (202) 565-2799.

SUPPLEMENTARY INFORMATION:

Background

Through this document, the Corporation for National and Community Service adopts a final rule regarding AmeriCorps education awards. Under the National and Community Service Act of 1990, as amended (42 U.S.C. 12501 et seq.), an individual who successfully completes a term of service in a national service position (referred to as an “AmeriCorps member”) is eligible for an education award. An AmeriCorps member may use an education award to repay qualified student loans or to pay for approved educational expenses.

We published a proposed rule on December 1, 1999 (64 FR 67235) to clarify one provision regarding eligibility for an education award and another provision concerning the use of the education award to pay current educational expenses at an institution of higher education. We have determined not to proceed on the proposed change regarding eligibility. Accordingly, this final rule involves only a change to the rules governing the payment of current educational expenses.

Definition of Current Educational Expenses

Section 148(c) allows an AmeriCorps member to use the education award to pay for “current” costs of attendance at a qualified institution of higher education. The previous rule published on July 12, 1999, defined “current” expenses as covering only those expenses incurred after the completion of service. This rule expands the definition of “current” educational expenses to include expenses incurred after an individual enrolls in a term of service as an AmeriCorps member. We believe that this change in definition will help to avoid unnecessary financial hardship for AmeriCorps members who serve while also attending an institution of higher education.

Discussion of the Public Comments

The proposed rule of December 1, 1999, gave the public sixty days to submit comments. We received one comment regarding current educational expenses. One commenter expressed concern that the change in definition of “current” educational expenses would place an undue administrative burden on the Corporation and local program operators to monitor the pace of such expenditures against the value of the education award as it is earned. We do not believe that this concern is well-founded. The change in definition will not require such monitoring, as there is no necessary connection between the two amounts. The rule simply authorizes an AmeriCorps member to use an education award to pay for costs of attendance at an approved institution of higher education for a period of attendance that begins after the member's term of service.

Executive Order 12866

We have determined that this regulatory action is not a “significant” rule within the meaning of Executive Order 12866 because it is not likely to result in: (1) An annual effect on the economy of $100 million or more, or an adverse and material effect on a sector of the economy, productivity, competition, jobs, the environment, public health or safety, or State, local, or tribal government or communities; (2) the creation of a serious inconsistency or interference with an action taken or planned by another agency; (3) a material alteration in the budgetary impacts of entitlement, grants, user fees, or loan programs or the rights and obligations of recipients thereof; or (4) the raising of novel legal or policy issues arising out of legal mandates, the President's priorities, or the principles set forth in Executive Order 12866.

Regulatory Flexibility Act

We have determined that this regulatory action will not result in (1) an annual effect on the economy of $100 million or more; (2) a major increase in costs or prices for consumers, individual industries, Federal, State, or local government agencies, or geographic regions; or (3) significant adverse effects on competition, employment, investment, productivity, innovation, or on the ability of United States-based enterprises to compete with foreign-based enterprises in domestic and export markets. Therefore, we have not performed the initial regulatory flexibility analysis that is required under the Regulatory Flexibility Act (5 U.S.C. 601 et seq.) for major rules that are expected to have such results.

Other Impact Analyses

Because these changes do not authorize any information collection activity outside the scope of existing regulations, this regulatory action is not subject to review and approval under the Paperwork Reduction Act of 1995 (44 U.S.C. 3500 et seq.). For purposes of Title II of the Unfunded Mandates Reform Act of 1995, 2 U.S.C. 1531-1538, as well as Executive Order 12875, this regulatory action does not contain any federal mandate that may result in increased expenditures in either Federal, State, local, or tribal governments in the aggregate, or impose an annual burden exceeding $100 million on the private sector.

List of Subjects in 45 CFR Part 2525

Grant programs—social programs, Student aid, Volunteers.

Accordingly, the Corporation for National and Community Service amends 45 CFR chapter XXV as follows:

PART 2525—NATIONAL SERVICE TRUST: PURPOSE AND DEFINITIONS

1. The authority citation for part 2525 continues to read as follows:

Authority: 42 U.S.C. 12601-12604.

2. Section 2525.20 is amended by revising the definition of “Current educational expenses” to read as follows:

§ 2525.20 Definitions.

* * * * *

Current educational expenses. The term current educational expenses means the cost of attendance for a period of enrollment in an institution of higher education that begins after an individual enrolls in an approved national service position.

* * * * *

Dated: December 6, 2000.
Wendy Zenker,
Chief Operating Officer, Corporation for National and Community Service.

[FR Doc. 00-31669 Filed 12-12-00; 8:45 am]

BILLING CODE 6050-28-P